FEDERAL MARITIME COMMISSION

Controlled Carriers Under the Shipping Act of 1984

AGENCY: Federal Maritime Commission.

ACTION: Notice.

SUMMARY: The Federal Maritime Commission is publishing an updated list of controlled carriers, i.e., ocean common carriers operating in U.S.-foreign trades that are owned or controlled by foreign governments. Such carriers are subject to special regulatory oversight by the Commission under the Shipping Act of 1984.

FOR FURTHER INFORMATION CONTACT: Thomas Panebianco, General Counsel, Federal Maritime Commission, 800 North Capitol Street, N.W., Washington, D.C. 20573, (202) 523-5740.

SUPPLEMENTARY INFORMATION: The Federal Maritime Commission is publishing an updated list of controlled carriers. Section 3(8) of the Shipping Act of 1984, 46 U.S.C. app. 1702(3), defines a “controlled carrier” as:

an ocean common carrier that is, or whose operating assets are, directly or indirectly, owned or controlled by a government; ownership or control by a government shall be deemed to exist with respect to any carrier if—

(A) a majority portion of the interest in the carrier is owned or controlled in any manner by that government, by any agency thereof, or by any public or private person controlled by that government; or

(B) that government has the right to appoint or disapprove the appointment of a majority of the directors, the chief operating officer, or the chief executive officer of the carrier.

Under the Shipping Act, controlled carriers are subject to special oversight by the Commission. Section 9(a) of the Act, 46 U.S.C. app. 1708(a), states, in part:

No controlled carrier subject to this section may maintain rates or charges in its tariffs or service contracts, or charge or assess rates, that are below a level that is just and reasonable, nor may any such carrier establish, maintain, or enforce unjust or unreasonable classifications, rules, or regulations in those tariffs or service contracts. An unjust or unreasonable classification, rule, or regulation means one that results or is likely to result in the carriage or handling of cargo at rates or charges that are below a just and reasonable level. The Commission may, at any time after notice and hearing, prohibit the publication or use of any rates, charges, classifications, rules, or regulations that the controlled carrier has failed to demonstrate to be just and reasonable.

Congress enacted these protections to ensure that controlled carriers, whose marketplace decisionmaking can be influenced by foreign governmental priorities or by their access to non-market sources of capital, do not engage in unreasonable below-market pricing practices which could disrupt trade or harm privately-owned shipping companies.

The controlled carrier list is not a comprehensive list of foreign-owned ­ or -controlled ships or shipowners; rather, it is only a list of ocean common carriers (as defined in section 3(16) of the Shipping Act) that are owned or controlled by governments. Thus, tramp operators and other non-common carriers are not included, regardless of their ownership status.

A number of carriers have been deleted from the list since its last republication in August 1994 (59 FR 44988), because they have ceased operating as an ocean common carrier in the U.S. trades or have gone out of existence altogether. In addition, some of the deleted carriers have been privatized and are no longer government-owned or -controlled. Recent additions to the list are China Shipping Container Lines Co. Ltd. and China National Foreign Trade Transportation (Group) Corp. (SINOTRANS).

Any new controlled carriers in U.S. trades are required to notify the Commission of their status in accordance with 46 CFR 565.4. It is requested that any other information regarding possible omissions or inaccuracies in this list be provided to the Commission's Office of the General Counsel. The amended list is set forth below:

(1) Black Sea Shipping Company—Ukraine

(2) Ceylon Shipping Corporation—Sri Lanka

(3) China National Foreign Trade Transportation (Group) Corp. (SINOTRANS)—People's Republic of China

(4) China Ocean Shipping Company—People's Republic of China

(5) China Shipping Container Lines Co. Ltd.—People's Republic of China

(6) Compagnie Nationale Algerienne de Navigation—Algeria

(7) Egyptian National Line—Egypt

(8) International Transport Enterprise Co. (GETDD) Ltd.—People's Republic of China

(9) Pakistan National Shipping Corporation—Pakistan

(10) POL-America, Inc.—Poland

(11) Polish Ocean Lines—Poland

(12) Shipping Corporation of India—India

(13) Tientsin Marine Shipping Company—People's Republic of China.

Theodore A. Zook,
Assistant Secretary.

[FR Doc. 00-24808 Filed 9-26-00; 8:45 am]

BILLING CODE 6730-01-P